DEPARTMENT OF TRANSPORTATION

Federal Aviation Administration

14 CFR Part 71

[Docket No. FAA-2024-2568; Airspace Docket No. 24-AGL-10]

RIN 2120-AA66

Amendment of Jet Routes J-60 and J-82, and VOR Federal Airways V-8, V-55, and V-221; and Revocation of VOR Federal Airways V-92 and V-126 in the Vicinity of Goshen, IN

AGENCY: Federal Aviation Administration (FAA), DOT.

ACTION: Final rule.

SUMMARY: This action amends Jet Routes J-60 and J-82, and Very High Frequency Omnidirectional Range (VOR) Federal Airways V-8, V-55, and V-221; and revokes VOR Federal Airways V-92 and V-126. The FAA is taking these Air Traffic Service (ATS) route actions due to the planned decommissioning of the VOR portion of the Goshen, IN (GSH), VOR/Tactical Air Navigation (VORTAC) navigational aid (NAVAID). The Goshen VOR is being decommissioned in support of the FAA's VOR Minimum Operational Network program.

DATES: Effective date 0901 UTC, June 12, 2025. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11J, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Colby Abbott, Rules and Regulations Group, Policy Directorate, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the National Airspace System (NAS) as necessary to preserve the safe and efficient flow of air traffic.

History

The FAA published an NPRM for Docket No. FAA-2024-2568 in the Federal Register (89 FR 97569; December 9, 2024), proposing to amend Jet Routes J-60 and J-82, and VOR Federal Airways V-8, V-55, and V-221; and revoke VOR Federal Airways V-92 and V-126 due to the planned decommissioning of the VOR portion of the Goshen, IN, VORTAC NAVAID. Interested parties were invited to participate in this rulemaking effort by submitting written comments on the proposal. No comments were received.

Incorporation by Reference

Jet Routes are published in paragraph 2004 and VOR Federal Airways are published in paragraph 6010(a) of FAA Order JO 7400.11, Airspace Designations and Reporting Points, which is incorporated by reference in 14 CFR 71.1 on an annual basis. This document amends the current version of that order, FAA Order JO 7400.11J, dated July 31, 2024, and effective September 15, 2024. FAA Order JO 7400.11J is publicly available as listed in the ADDRESSES section of this document. These amendments will be published in the next update to FAA Order JO 7400.11.

FAA Order JO 7400.11J lists Class A, B, C, D, and E airspace areas, air traffic service routes, and reporting points.

The Rule

This action amends 14 CFR part 71 by amending Jet Routes J-60 and J-82, and VOR Federal Airways V-8, V-55, and V-221; and revoking VOR Federal Airways V-92 and V-126 due to the planned decommissioning of the VOR portion of the Goshen, IN, VORTAC NAVAID. The ATS route actions are described below.

J-60: Prior to this final rule, J-60 extended between the Los Angeles, CA, VORTAC and the Sparta, NJ, VORTAC. The route segment between the Joliet, IL, VOR/Distance Measuring Equipment (VOR/DME) and the Dryer, OH, VOR/DME is removed. As amended, the route is changed to now extend between the Los Angeles VORTAC and the Joliet VOR/DME, and between the Dryer VOR/DME and the Sparta VORTAC.

J-82: Prior to this final rule, J-82 extended between the Battle Ground, WA, VORTAC and the Sioux Falls, SD, VORTAC; and between the Dubuque, IA, VORTAC and the Goshen, IN, VORTAC. The route segment between the Joliet, IL, VOR/DME and the Goshen VORTAC is removed. As amended, the route is changed to now extend between the Battle Ground VORTAC and the Sioux Falls VORTAC, and between the Dubuque VORTAC and the Joliet VOR/DME.

V-8: Prior to this final rule, V-8 extended between the intersection of the Seal Beach, CA, VORTAC 266° and Ventura, CA, VOR/DME 144° radials (DOYLE Fix) and the Flag City, OH, VORTAC; and between the Martinsburg, WV, VORTAC and the Washington, DC, VOR/DME. The portion of the airway outside the United States has no upper limit. The airway segment between the Chicago Heights, IL, VORTAC and the Flag City VORTAC is removed. As amended, the airway is changed to now extend between the intersection of the Seal Beach VORTAC 266° and Ventura VOR/DME 144° radials (DOYLE Fix) and the Chicago Heights VORTAC, and between the Martinsburg VORTAC and the Washington VOR/DME.

V-55: Prior to this final rule, V-55 extended between the Dayton, OH, VOR/DME and the Pullman, MI, VOR/DME; and between the Grand Forks, ND, VOR/DME and the Bismarck, ND, VOR/DME. The airway segment between the Fort Wayne, IN, VORTAC and the Gipper, MI, VORTAC is removed. As amended, the airway is changed to now extend between the Dayton VOR/DME and the Fort Wayne VORTAC, between the Gipper VORTAC and the Pullman VOR/DME, and between the Grand Forks VOR/DME and the Bismarck VOR/DME.

V-92: Prior to this final rule, V-92 extended between the Chicago Heights, IL, VORTAC and the Goshen, IN, VORTAC. The airway is removed in its entirety.

V-126: Prior to this final rule, V-126 extended between the Goshen, IN, VORTAC and the intersection of the Goshen VORTAC 092° and Fort Wayne, IN, VORTAC 016° radials (ILTON Fix). The airway is removed in its entirety.

V-221: Prior to this final rule, V-221 extended between the Bible Grove, IL, VORTAC and the intersection of the Fort Wayne, IN, VORTAC 016° and Goshen, IN, VORTAC 092° radials (ILTON Fix). The airway segment between the Fort Wayne VORTAC and the intersection of the Fort Wayne VORTAC 016° and Goshen VORTAC 092° radials (ILTON Fix) is removed. As amended, the airway is changed to now extend between the Bible Grove VORTAC and the Fort Wayne VORTAC.

All NAVAID radials listed in the ATS route descriptions in the regulatory text of this final rule are unchanged and stated in degrees True north.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action amending Jet Routes J-60 and J-82, and VOR Federal Airways V-8, V-55, and V-221; and revoking VOR Federal Airways V-92 and V-126, due to the planned decommissioning of the VOR portion of the Goshen, IN, VORTAC NAVAID, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5i, which categorically excludes from further environmental impact review the establishment of new or revised air traffic control procedures conducted at 3,000 feet or more above ground level (AGL); procedures conducted below 3,000 feet AGL that do not cause traffic to be routinely routed over noise sensitive areas; modifications to currently approved procedures conducted below 3,000 feet AGL that do not significantly increase noise over noise sensitive areas; and increases in minimum altitudes and landing minima. As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 2004 Jet Routes.

* * * * *

J-60 [Amended]

From Los Angeles, CA; Paradise, CA; Hector, CA; Boulder City, NV; Bryce Canyon, UT; Hanksville, UT; Red Table, CO; Mile High, CO; Hayes Center, NE; Lincoln, NE; Iowa City, IA; to Joliet, IL. From Dryer, OH; Philipsburg, PA; INT Philipsburg 100° and Sparta, NJ, 253° radials; to Sparta.

* * * * *

J-82 [Amended]

From Battle Ground, WA; Donnelly, ID; Dubois, ID; Crazy Woman, WY; Rapid City, SD; to Sioux Falls, SD. From Dubuque, IA; INT Dubuque 095° and Joliet, IL, 317° radials; to Joliet.

* * * * *

Paragraph 6010(a) Domestic VOR Federal Airways.

* * * * *

V-8 [Amended]

From INT Seal Beach, CA, 266° and Ventura, CA, 144° radials; Seal Beach; Paradise, CA; 35 miles, 7 miles wide (3 miles SE and 4 miles NW of centerline) Hector, CA; Goffs, CA; INT Goffs 033° and Morman Mesa, NV, 196° radials; Morman Mesa; Bryce Canyon, UT; Hanksville, UT; Grand Junction, CO; Rifle, CO; Kremmling, CO; Mile High, CO; Akron, CO; Hayes Center, NE; Grand Island, NE; Omaha, IA; Des Moines, IA; Iowa City, IA; Moline, IL; Joliet, IL; to Chicago Heights, IL. From Martinsburg, WV; to Washington, DC. The portion outside the United States has no upper limit.

* * * * *

V-55 [Amended]

From Dayton, OH; to Fort Wayne, IN. From Gipper, MI; Keeler, MI; to Pullman, MI. From Grand Forks, ND; INT Grand Forks 239° and Bismarck, ND, 067° radials; to Bismarck.

* * * * *

V-92 [Removed]

* * * * *

V-126 [Removed]

* * * * *

V-221 [Amended]

From Bible Grove, IL; Hoosier, IN; Shelbyville, IN; Muncie, IN; to Fort Wayne, IN.

* * * * *

Issued in Washington, DC, on March 24, 2025.
Brian Eric Konie,
Manager (A), Rules and Regulations Group.

[FR Doc. 2025-05286 Filed 3-28-25; 8:45 am]

BILLING CODE 4910-13-P